DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

Methamphetamine Abuse Treatment—Special Studies (MAT-SS)—New—The Methamphetamine Abuse Treatment—Special Studies (MAT-SS) project is a family of coordinated studies funded by SAMHSA's Center for Substance Abuse Treatment (CSAT) that will serve as a follow-up to the CSAT Methamphetamine Treatment Project (MTP). The MTP was conducted to compare the outcomes of the Matrix Model of methamphetamine treatment with Treatment-as-Usual in and across multiple treatment sites, and to assess the feasibility and outcomes generated by a technology transfer of the Matrix Model. Participants included 150 methamphetamine dependent clients recruited at each treatment site who were randomly assigned to one of the treatment conditions. Participants, diverse in demographic characteristics, and in individual and environmental circumstances, were evaluated at admission, weekly during treatment, at discharge, and at 6 and 12 months after treatment admission. Participating treatment sites include eight programs in seven geographical areas: Billings, Montana; Honolulu, Hawaii; and Concord, Costa Mesa, San Diego, Hayward, and San Mateo, California.

The family of studies included in the MAT-SS project will address diverse issues associated with the phenomena of methamphetamine dependence. The Multi-Year Methamphetamine Treatment Follow-up Study will assess the long-term outcome and functioning of individuals who previously participated in treatment for methamphetamine dependence. The study will utilize a 36-month post-intake, face-to-face, one-on-one structured interview. Multiple measures typically utilized in substance abuse research with established psychometric properties will be employed to assess the longitudinal course of methamphetamine dependence and its consequences. Follow-up participants will also be interviewed to collect medical, neurological, and psychiatric data.

The Adherence to Manualized Treatment Protocols Over Time Study will assess issues associated with the adoption of the Matrix Model of treatment and/or Matrix treatment components after the formal MTP study period has ended, specifically addressing adherence to the manualized treatment protocol. Interviews of both staff and clients will utilize a semi-structured, face-to-face format.

Finally, The Cost Analysis of Outpatient Methamphetamine Treatment Study will evaluate the cost effectiveness of both the Matrix and Treatment-as-Usual treatment conditions in each treatment site. Two data collection methods will be utilized to collect information from both administrator interviews and review of administrative and financial records.

The conceptual underpinning of the MAT-SS project is a recognition by SAMHSA and leading experts in the field that escalating methamphetamine abuse nationwide necessitates a longitudinally focused investigation addressing the process, nature, and consequences of methamphetamine dependence. The overall goals of the MAT-SS project are to document the longitudinal process of addiction and recovery in methamphetamine-dependent individuals, ascertain the feasibility and success of implementing a manualized treatment protocol in community-based treatment settings, and evaluate the cost effectiveness of various treatments for methamphetamine dependence. The following table summarizes the burden for this project.

| Number of respondents | Responses per respondent | Hours per response | Total burden hours
Follow-up client interviews | 1,016 | 1 | 3.0 | 3,048
Follow-up interviews/exams | (1,016) | 1 | 2.0 | 2,032
Treatment adherence interviews—Clients | 253 | 2 | 1.5 | 759
Treatment adherence interviews—Staff | 64 | 2 | 1.5 | 192
Cost analysis interviews—Executive Directors | 8 | 2 | .5 | 8
Cost analysis interviews—Finance Director/CFO | 8 | 2 | 1.0 | 16
Cost analysis interviews—Clinical Director | 8 | 2 | 1.5 | 24
Total | 1,357 |  |  | 6,079
3-year Annual Average | 452 |  |  | 2,026

Written comments and recommendations concerning the proposed information collection should be sent within 30 days of this notice to: Lauren Wittenberg, Human Resources and Housing Branch, Office of Management and Budget, New Executive Office Building, Room 10235, Washington, DC 20503.

Dated: April 9, 2002.
Richard Kopanda,
Executive Officer, SAMHSA.

[FR Doc. 02-9012 Filed 4-12-02; 8:45 am]

BILLING CODE 4162-20-P